DEPARTMENT OF STATE

[Public Notice: 9256]

60-Day Notice of Proposed Information Collection: INTERNational Connections

ACTION: Notice of request for public comment.

SUMMARY: The U.S. Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 3, 2015.

You may submit comments by any of the following methods:

• Web: Persons with access to the Internet may comment on this notice by going to www.Regulations.gov. You can search for the document by entering “Docket Number: DOS-2015-0044” in the Search field. Then click the “Comment Now” button and complete the comment form.

• Email: rudowh@state.gov.

• Regular Mail: Send written comments to: U.S. Department of State, 2401 E St. NW., SA1-518H, Washington, DC 20520. Attn.: Heather Rudow.

You must include the DS form number (if applicable), information collection title, and the OMB control number in any correspondence.

FOR FURTHER INFORMATION CONTACT: Direct requests for additional information regarding the collection listed in this notice, including requests for copies of the proposed collection instrument and supporting documents, to Heather Rudow, 2401 E Street NW., Washington, DC 20520, who may be reached on 202-261-8953 or at rudowh@state.gov.

SUPPLEMENTARY INFORMATION: • Title of Information Collection: INTERNational Connections.

• OMB Control Number: 1405-0190.

• Type of Request: Extension of an Approved Collection.

• Originating Office: Bureau of Human Resources, Office of Recruitment, Examination and Employment (HR/REE).

• Form Number: DS-5103.

• Respondents: Current and former interns of the U.S. Department of State's student programs, including internships, Pickerings, Rangels, Pathways, etc., and Department employees.

• Estimated Number of Respondents: 1,000.

• Estimated Number of Responses: 1,000.

• Average Time per Response: 15 minutes.

• Total Estimated Burden Time: 250 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department's student internship programs provide a key source of potential candidates who have an interest in, and are competitive, to become future Department employees. Naturally, HR/REE wants to strengthen and maintain its connections to this group, fostering and mentoring a pool of candidates from which to obtain successful recruits.

In June 2008, HR/REE surveyed over 3,500 former interns who served from 2005 through spring 2008. The intern alumni were queried as to their motivation in seeking an internship, whether or not they had pursued a career with either the Foreign Service or Civil Service, and what their recommendations would be for the best ways for the Department to maintain contact after the conclusion of their internships. Intern alumni endorse continued contact with Department representatives mainly through electronic means and Web site reminders of career opportunities.

In an effort to address these findings and provide viable solutions to improving student engagement prior to, during and following an internship, the Department developed an intern engagement strategy that will potentially result in a measurable conversion of interns into Department hires for the Foreign or Civil Service. The foundation of this strategy is INTERNational Connections, a Web-based career networking site for current and former interns as well as Department employees that collects pertinent information about them, their experiences and their career goals.

Methodology

Users register online at https://internconnect.careers.state.gov and create a profile that includes: Full name, program status, names of colleges you've attended, major/minor, where you're from, current post, year graduated, career goals and interests, personal interests, twitter handle, career path, bureau, job title, professional experience and languages you can speak. The sources of information are current and former interns, as well as Department employees.

Dated: August 26, 2015.
Derwood Staeben,
Director, HR/REE, U.S. Department of State.

[FR Doc. 2015-22032 Filed 9-3-15; 8:45 am]

BILLING CODE 4710-05-P